DEPARTMENT OF HEALTH AND HUMAN SERVICES

Substance Abuse and Mental Health Services Administration

Fiscal Year (FY) 2014 Funding Opportunity

AGENCY: Substance Abuse and Mental Health Services Administration, HHS.

ACTION: Notice of intent to award a single source grant to Link2Health Solutions, Inc.

SUMMARY: This notice is to inform the public that the Substance Abuse and Mental Health Services Administration (SAMHSA) intends to award up to $1,448,432 (total costs) for one year to Link2Health Solutions, Inc., as a program supplement to the National Suicide Prevention Lifeline. The purpose of this program is to provide national telephonic access at any time of the day or night to suicide prevention and crisis intervention services through toll-free suicide prevention hotline numbers, including 1-800-273-TALK (8255). Supplemental funding is being provided for the National Suicide Prevention Lifeline to expand and enhance the currently funded chat and text-based SMS services from 12 hours a day to 24/7 coverage. The Lifeline will continue awareness raising activities such as, but not limited to, social media engagement and promotion of services that will continue to be directed towards the suicide prevention needs of high-risk populations identified by the National Action Alliance for Suicide Prevention; lesbian, gay, bisexual, or transgender (LGBT) youth, American Indian/Alaska Native (AI/AN), military family members and veterans, and suicide attempt survivors. These services directly support the objectives of the National Strategy for Suicide Prevention.

Funding Opportunity Title: SM-14-021.

Catalog of Federal Domestic Assistance (CFDA) Number: 93.243.

Authority: Section 520A of the Public Health Service Act, as amended, and is financed by 2014 Prevention and Public Health Funds (PPHF-2014).

Justification: Eligibility is limited to Link2Health Solutions, Inc., the current grantee for the Cooperative Agreement for Networking, Certifying and Training Suicide Prevention Hotlines (the Lifeline). Under this one-year supplemental funding, Link2Solutions, Inc. will expand and enhance their current grant activities to increase chat technology infrastructure and expand and strengthen chat coverage for veterans, military families, suicide attempt survivors and other high-risk populations. Since Link2Health Solutions is currently operating the National Suicide Prevention Hotline, this is the most efficient and cost effective use of grant funds.

FOR FURTHER INFORMATION CONTACT: Cathy Friedman, Substance Abuse and Mental Health Services Administration, 1 Choke Cherry Road, Room 8-1097, Rockville, MD 20857; telephone: (240) 276-2316; email: cathy.friedman@samhsa.hhs.gov.

Cathy J. Friedman,
SAMHSA Public Health Analyst.

[FR Doc. 2014-15042 Filed 6-26-14; 8:45 am]

BILLING CODE 4162-20-P